DEPARTMENT OF VETERANS AFFAIRS

[OMB Control No. 2900-New (Pay Now Enter Info Page)]

Proposed Information Collection Activity: Proposed Collection; Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice solicits comments on information needed to electronically submit payment for VA benefits debts owed.

DATES: Written comments and recommendations on the proposed collection of information should be received on or before March 21, 2005.

ADDRESSES: Submit written comments on the collection of information to David Sturm, VA Debt Management Center, Bishop Henry Whipple Federal Building, P.O. Box 11930, St. Paul, MN 55111-0930 or e-mail to: DMCDSTUR@VBA.VA.GOV. Please refer to “OMB Control No. 2900-New (Pay Now Enter Info Page)” in any correspondence.

FOR FURTHER INFORMATION CONTACT: David Sturm at (612) 970-5702 or FAX (612) 970-5687.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM's functions, including whether the information will have practical utility; (2) the accuracy of OM's estimate of the burden of the proposed collection of information; (3) ways to enhance the quality, utility, and clarity of the information to be collected; and (4) ways to minimize the burden of the collection of information on respondents, including through the use of automated collection techniques or the use of other forms of information technology.

Title: Pay Now Enter Info Page.

OMB Control Number: 2900-New (Pay Now Enter Info Page).

Type of Review: New collection.

Abstract: The information collected on the Pay Now Enter Info Page Web site is used to initiate voluntary online payments from claimants owing debts to VA. Claimants completing the online form are redirected to the Department of Treasury's Pay.gov Web site to make payments with credit or debit cards, or directly from their bank account.

Affected Public: Individuals or households.

Estimated Annual Burden: 1,167 hours.

Estimated Average Burden Per Respondent: 15 minutes.

Frequency of Response: Daily.

Estimated Number of Respondents: 7,000.

Dated: January 5, 2005.
By direction of the Secretary.
Loise Russell,
Director, Records Management Service.

[FR Doc. 05-976 Filed 1-18-05; 8:45 am]

BILLING CODE 8320-01-P